SMALL BUSINESS ADMINISTRATION

Disaster Declaration #11264 and #11265; IOWA Disaster Number IA-00015

AGENCY: U.S. Small Business Administration.

ACTION: Amendment 11.

SUMMARY: This is an amendment of the Presidential declaration of a major disaster for the State of IOWA (FEMA-1763-DR), dated 05/27/2008.

Incident: Severe Storms, Tornadoes, and Flooding.

Incident Period: 05/25/2008 and continuing.

DATES: Effective Date: 08/12/2008.

Physical Loan Application Deadline Date: 09/29/2008.

EIDL Loan Application Deadline Date: 02/27/2009.

ADDRESSES: Submit completed loan applications to: U.S. Small Business Administration, Processing and Disbursement Center, 14925 Kingsport Road, Fort Worth, TX 76155.

FOR FURTHER INFORMATION CONTACT: M. Mitravich, Office of Disaster Assistance, U.S. Small Business Administration, 409 3rd Street, SW., Suite 6050, Washington, DC 20416.

SUPPLEMENTARY INFORMATION: The notice of the Presidential disaster declaration for the State of IOWA, dated 05/27/2008, is hereby amended to include the following areas as adversely affected by the disaster:

Primary Counties: (Physical Damage and Economic Injury Loans): Audubon, Winnebago, Adair Cass, Grundy, Guthrie Henry.

Contiguous Counties: (Economic Injury Loans Only): All other information in the original declaration remains unchanged.

(Catalog of Federal Domestic Assistance Numbers 59002 and 59008).

James E. Rivera,
Acting Associate Administrator for Disaster, Assistance.

[FR Doc. E8-19235 Filed 8-19-08; 8:45 am]

BILLING CODE 8025-01-P